DEPARTMENT OF COMMERCE

International Trade Administration

Education Trade Mission to Indonesia and Vietnam

AGENCY: International Trade Administration, Department of Commerce.

ACTION: Notice.

Mission Description

The United States Department of Commerce, International Trade Administration, U.S. and Foreign Commercial Service (CS) is organizing an education trade mission to Indonesia and Vietnam, April 3-8, 2011. Led by a senior Department of Commerce official, the mission to these two countries is intended to include representatives from a variety of accredited U.S. education institutions. However, the emphasis will be on community colleges, intensive English language programs, and undergraduate programs. English language programs seeking to participate should be accredited by CEA (Commission on English Language Program Accreditation) or ACCET (Accrediting Council for Continuing Education and Training); community colleges and undergraduate programs seeking to participate should be accredited by one of the six regional institutional accreditors in the United States.

The mission will introduce participants to potential students and prospective partners. Participating in the Education Trade Mission, rather than traveling to these markets independently, will enhance the schools' ability to secure the appropriate meetings, especially in light of the high level engagement and support of U.S. education by the U.S. ambassadors in each of these countries. The mission will include education sector briefings, and a student fair at each stop with the options of matchmaking sessions with potential recruitment partners, or networking sessions with local schools. Trade mission participants will interact with CS education specialists as well as other State Department advisors and officers to discuss opportunities, challenges and marketing strategies for each market.

Commercial Setting

Vietnam

With a population of 86 million, a steadily increasing per capita income, a booming private sector, and the high value the Vietnamese place on education, Vietnam offers significant opportunities to U.S. providers of education services. Vietnam presently has over 20,000 students studying abroad, paying about $200 million in tuition and fees every year. Of those, 13,000 are studying in the U.S. With an increase of 46% over last year, Vietnam ranks 9th among countries sending students to the U.S. This increase is the 6th consecutive double-digit increase in Vietnamese students going to the U.S. Notably, Vietnam ranks 3rd among countries sending international students to the U.S. to study at community colleges. English as a Second Language and English immersion programs and majors such as business management, engineering, information technologies, and sciences are popular among Vietnamese students.

Education reform has not kept pace with economic development in Vietnam, and improving the education system will be crucial to sustaining long-term growth. Education has become a key feature in bilateral cooperation between Vietnam and the U.S. The U.S. Embassy in Hanoi has made the development of education in Vietnam a top priority, including dramatically increasing the number of Vietnamese students studying at U.S. institutions of higher learning and encouraging greater educational exchange between the U.S. and Vietnam.

Indonesia

Indonesia, as the world's fourth largest nation and one of the G-20's strongest economies, is a tremendous potential market for U.S. educational institutions. There are numerous State-owned and private national and international high schools and prospects for the higher education market are good. Most Indonesian students are keen to study abroad and the U.S. has been one of the most desired destinations.

Under President Obama's U.S.-Indonesia Comprehensive Partnership, the education sector is the number one priority. The U.S. Embassy in Jakarta has a goal to double the current number of Indonesian students studying at U.S. educational institutions by 2014 to 15,000.

At present, there are over 50,000 Indonesian students overseas, including, 7,692 students in the United States. Of these, approximately 64 percent are pursuing undergraduate degrees. Indonesia ranks 16th among countries sending students to the U.S. Indonesia is also a leading market for U.S. community colleges. In addition to two-and-four year programs, Indonesia offers a promising market for ESL. While English-language is commonly taught in most high schools, most Indonesian students need to attend an intensive English-language preparation class before being qualified for admission to undergraduate studies.

Mission Goals

The short term goals of the education trade mission to Vietnam and Indonesia are to (1) introduce accredited U.S. schools to potential students in each market (2) introduce these U.S. schools to potential partners and other industry representatives, and (3) inform mission members of local cultural, political and economic factors in Indonesia and Vietnam that will affect both student recruitment strategies and the opportunities/challenges related to establishing partnerships.

Mission Scenario

In Jakarta, the trade mission participants will be presented with a briefing by the U.S. Embassy's Counselor for Commercial Affairs, the Senior Commercial Specialist for the education sector and other key U.S. Government and corporate officials. Participants will take part in an education fair. Participants will also have the option to take part in a matchmaking session with student recruitment agents or attend a roundtable presentation by local schools that wish to partner with U.S. schools.

In Ho Chi Minh City, participants will take part in education sector briefings by Consulate officers, corporate executives and local education sector experts, and exhibit at an education fair for parents and students. Participants will also have the option to take part in a matchmaking session with student recruitment agents or attend a roundtable presentation by local schools that wish to partner with U.S. schools.

In Hanoi, the U.S. mission members will be briefed by the U.S. Embassy's Counselor for Commercial Affairs, the Senior Commercial Specialist for the education sector and other key U.S. Government officials, corporate executives and education experts. Participants will exhibit at an education fair for parents and students. Participants will also have the option to take part in a matchmaking session with student recruitment agents or attend a roundtable presentation by local schools that wish to partner with U.S. schools.

At all stops, participants will have networking opportunities with various multipliers such as Education USA, education consultants, U.S. Indonesia Society, Institute of Education Exchange, school counselors, etc. U.S. participants will be counseled before and after the mission by a domestic mission coordinator. Participation in the mission will include the following:

• Pre-travel briefings/webinar on subjects ranging from opportunities in the education sectors to security;

• A student fair in Jakarta, Ho Chi Minh City, and Hanoi;

• Education sector briefings in each city;

• Participants will have the option of networking meetings with student recruitment agents or a roundtable with local universities that are interested in foreign partnerships in each city;

• Airport transfers in Jakarta, Ho Chi Minh City, and Hanoi;

• Meetings with CS education industry specialists in Jakarta, Ho Chi Minh City, and Hanoi.

Proposed Mission Timetable

Mission participants will be encouraged to arrive April 2, 2011 and the mission program will proceed from April 3 through April 8, 2011.

April 2 | Jakarta
| Arrive in Jakarta.
April 3 | Jakarta
| Education Fair.
April 4 | Jakarta
| Education Seminar/briefings by U.S. Embassy officials.
| Option A: Matchmaking Session with student recruitment agents.
| Option B: Visit to 2-3 high schools (feeder schools) and meet with student counselors.
April 5 | Ho Chi Minh City.
| Travel to Ho Chi Minh City.
April 6 | Ho Chi Minh City
| Market briefings by U.S. Consulate officials/Education Sector Executives.
| Option A: Matchmaking Session with student recruitment agents.
| Option B: Roundtable with local schools that wish to partner with U.S. schools.
| Education Fair.
April 7 | Hanoi
| Travel to Hanoi.
April 8 | Hanoi
| Market briefings by U.S. Embassy officials.
| Option A: Matchmaking Session with student recruitment agents.
| Option B: Roundtable with local schools that wish to partner with U.S. schools.
| Education Fair.
April 9 | Depart Hanoi.

Participation Requirements

All parties interested in participating in the Education Mission to Indonesia and Vietnam must complete and submit an application for consideration by the Department of Commerce. All applicants will be evaluated on their ability to meet certain conditions and best satisfy the selection criteria as outlined below. A minimum of 40 and a maximum of 70 educational institutions will be selected to participate in the mission from the applicant pool. U.S. education institutions already providing training to Indonesian and Vietnamese students as well as U.S. educational institutions seeking to enter the market for the first time are encouraged to apply.

Fees and Expenses

After an educational institution has been selected to participate on the mission, a payment to the Department of Commerce in the form of a participation fee is required. The participation fee will be $2,930 to cover one representative. The fee for each additional representative is $600. Expenses for travel, lodging, most meals, interpreters, and incidentals will be the responsibility of each mission participant.

Conditions for Participation

• Applicants must submit a completed and signed mission application and supplemental application materials, including adequate information on the schools accreditation, primary market objectives, and goals for participation. If the U.S. Department of Commerce receives an incomplete application, the Department may reject the application, request additional information, or take the lack of information into account when evaluating the applications.

• Applicants must provide detailed information on their mission objectives, and specify their options for matchmaking with agents and/or meetings with local schools in each city.

• Each applicant must also certify that the services it seeks to export through the mission benefit a U.S. based institution.

Selection Criteria for Participation

Selection will be based on the following criteria:

• Applicant must be appropriately accredited as per paragraph one.

• Suitability of the education institution to the mission's goals

• Applicant's potential for business in Vietnam and Indonesia, including likelihood of exports resulting from the trade mission

• Consistency of the applicant's goals and objectives with the stated scope of the trade mission (as an example—be in the education sectors indicated in the mission description)

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows.

Recruitment for the mission will begin immediately and conclude no later than Friday, January 14, 2011. The U.S. Department of Commerce will review all applications immediately after the deadline. We will inform applicants of selection decisions as soon as possible after January 14, 2011. Applications received after that date will be considered only if space and scheduling constraints permit.

Contacts

U.S. Commercial Service Domestic Contact

Debra Rogers, 312-353-6988, Debra.Rogers@trade.gov.

Gabriela Zelaya, (408) 535-2757, x107, Gabriela.Zelaya@trade.gov.

Bernadette Rojas, (216) 522-4740, Bernadette.Rojas@trade.gov.

Greg Thompson, 214-712-1932, Greg.Thompson@trade.gov.

U.S. Commercial Service Vietnam Contacts

Ho Chi Minh City:

Dave Averne, Commercial Officer, Dave.Averne@trade.gov.

Le Anh, Commercial Specialist, Le.Anh@trade.gov.

Hanoi:

Yasue Pai, Commercial Officer, Yasue.Pai@trade.gov.

Tuyet Trees, Tuyet.trees@trade.gov.

Ngo Anh, Ngo.Anh@trade.gov.

U.S. Commercial Service Indonesia Contacts

Jakarta:

Joe Kaesshaefer, Senior Commercial Officer, Joe.Kaesshaefer@trade.gov.

Henry Sutanto, Commercial Specialist, Henry.Sutanto@trade.gov.

Sean Timmins,
Trade Promotion Programs, Commercial Service Trade Missions Program.

[FR Doc. 2010-22136 Filed 9-2-10; 8:45 am]

BILLING CODE 3510-FP-P